DEPARTMENT OF COMMERCE

National Telecommunications and Information Administration

Notice: Request for Applications, Commerce Spectrum Management Advisory Committee

AGENCY: National Telecommunications and Information Administration, U.S. Department of Commerce.

ACTION: Reopening of Application Period.

SUMMARY: The National Telecommunications and Information Administration (NTIA) is seeking applications from persons interested in serving on the Commerce Spectrum Management Advisory Committee (CSMAC) for new two year terms to commence in December 2008. This Notice reopens the application period in order to provide the public with an additional opportunity to submit applications. The evaluation criteria for selecting members contained in the August 1, 2008 notice shall continue to apply.

DATES: Applications must be postmarked or electronically transmitted on or before October 17, 2008.

ADDRESSES: Persons wishing to submit applications should send their resume or curriculum vita and a statement summarizing the qualifications of the nominee and identifying any particular expertise or area of interest relevant to the CSMAC's work to the attention of Eric Stark, Designated Federal Officer, by mail to Office of Policy Analysis and Development, National Telecommunications and Information Administration, 1401 Constitution Avenue N.W., Room 4725, Washington, DC 20230; by facsimile transmission to (202) 482-6173; or by electronic mail to spectrumadvisory@ntia.doc.gov.

FOR FURTHER INFORMATION CONTACT: Eric Stark at (202) 482-1880 or estark@ntia.doc.gov; or Joe Gattuso at (202) 482-0977 or jgattuso@ntia.doc.gov.

SUPPLEMENTARY INFORMATION: On August 1, 2008 NTIA published a notice in the Federal Register seeking persons interested in serving on the CSMAC for new two year terms to commence in December 2008, with applications due no later than September 2, 2008. (73 Fed. Reg. 44972 (Aug. 1, 2008), available at http://edocket.access.gpo.gov/2008/pdf/E8-17693.pdf.). The CSMAC provides advice to the Assistant Secretary for Communications and Information and NTIA Administrator on spectrum management matters.

This notice reopens the application period in order to provide the public with an additional opportunity to submit applications. Any applicant who provided NTIA with the requested materials prior to this current notice and before the new due date will be considered for membership and need not resubmit materials. As before, current members of the CSMAC are not required to submit applications in order to be reappointed; however, reappointments are not automatic.

Members of the CSMAC are experts in radio spectrum policy and do not represent any organization or interest. They serve on the CSMAC in the capacity of Special Government Employees. They do not receive compensation or reimbursement for travel or for per diem expenses.

The CSMAC's charter allows it to have up to 20 members. Appointments are for two-year terms, subject to continuation of the CSMAC under its charter. NTIA intends to seek renewal of the current charter, which expires March 27, 2009.

The evaluation criteria for selecting members contained in the August 1, 2008 notice shall continue to apply. The Secretary of Commerce will appoint members with a broad cross-section of points of views from the private and non-federal government sectors. The Department of Commerce seeks high level individuals with expertise in those sectors and interests on spectrum policy issues relevant to the CSMAC.

Applications should include a resume or curriculum vita and should also include a statement summarizing the qualifications of the applicant and identifying any particular expertise or area of interest relevant to the CSMAC's work.

Dated: September 5, 2008.
Kathy D. Smith,
Chief Counsel, National Telecommunications and Information Administration.

[FR Doc. E8-21025 Filed 9-9-08; 8:45 am]

BILLING CODE 3510-60-S